POSTAL REGULATORY COMMISSION

39 CFR Part 3010

[Docket No. RM2022-4; Order No. 6222]

RIN 3211-AA26

Rules of Practice and Procedure

AGENCY: Postal Regulatory Commission.

ACTION: Final rule.

SUMMARY: The Commission is revising its rules of practice and procedure regarding notices, motions, and information requests to provide specific rules for motions for reconsideration of final Commission orders.

DATES: Effective August 19, 2022.

ADDRESSES: For additional information, Order No. 6222 can be accessed electronically through the Commission's website at https://www.prc.gov.

FOR FURTHER INFORMATION CONTACT: David A. Trissell, General Counsel, at 202-789-6820.

SUPPLEMENTARY INFORMATION:

Table of Contents

I. Background

II. Basis and Purpose of Final Rules

III. Final Rules

I. Background

The Commission currently considers timely motions for reconsideration of its final orders to determine if those motions raise material errors of fact or law.¹ However, there are no existing Commission rules specific to motions for reconsideration, including when such a motion should be considered timely. Movants file such motions citing to the Commission's general rule for motions, found in 39 CFR 3010.160, or the underlying rules governing the subject matter of the docket.

¹ See, e.g., Docket No. RM2020-9, Order Denying United Parcel Service, Inc.'s Motion for Reconsideration of Order No. 6048, January 28, 2022 (Order No. 6097).

II. Basis and Purpose of Final Rules

The instant revisions provide rules specific to motions for reconsideration. These revised rules provide guidance with respect to the timing, content, and procedural requirements of these motions, as well as their effect on appellate deadlines, to facilitate public participation in Commission dockets, and to ensure finality of Commission orders.

III. Final Rules

The Commission adopts regulations in order to improve the clarity of its procedures by providing rules specific to motions for reconsideration.

List of Subjects in 39 CFR Part 3010

Administrative practice and procedure, Confidential business information, Freedom of information, Sunshine Act.

For the reasons stated in the preamble, the Commission amends chapter III of title 39 of the Code of Federal Regulations as follows:

PART 3010—RULES OF PRACTICE AND PROCEDURE

1. The authority citation for part 3010 continues to read as follows:

Authority: 39 U.S.C. 404(d); 503; 504; 3661.

2. Add § 3010.165 to read as follows:

§ 3010.165 Motions for reconsideration.

(a) Any person may file a motion requesting reconsideration of a final order by the Commission.

(b) The motion shall be filed within 15 days of the issuance of the final order that is the subject of the motion and must:

(1) Briefly and specifically allege material errors of fact or law and the relief sought; and

(2) Be confined to new questions raised by the determination or action ordered and upon which the moving party had no prior opportunity to submit arguments.

(c) Upon filing a motion for reconsideration, the underlying Commission order is not deemed to be final for purposes of 39 U.S.C. 3663 until final disposition of the motion.

Erica A. Barker,
Secretary.

[FR Doc. 2022-15437 Filed 7-19-22; 8:45 am]

BILLING CODE 7710-FW-P